INTERNATIONAL TRADE COMMISSION

[Investigation Nos. 701-TA-480 and 731-TA-1188 (Final)]

High Pressure Steel Cylinders From China

Determinations

On the basis of the record ¹ developed in the subject investigations, the United States International Trade Commission (Commission) determines, pursuant to sections 705(b) and 735(b) of the Tariff Act of 1930 (19 U.S.C. 1671d(b)) and (19 U.S.C. 1673d(b)) (the Act), that an industry in the United States is materially injured by reason of imports of high pressure steel cylinders from China, provided for in subheading 7311.00.00 of the Harmonized Tariff Schedule of the United States, that the U.S. Department of Commerce has determined are subsidized and sold in the United States at less than fair value (“LTFV”).²

¹ The record is defined in sec. 207.2(f) of the Commission's Rules of Practice and Procedure (19 CFR 207.2(f)).

² All six Commissioners voted in the affirmative.

Background

The Commission instituted these investigations effective May 11, 2011, following receipt of a petition filed with the Commission and Commerce by Norris Cylinder Company, Longview, Texas. The final phase of the investigations was scheduled by the Commission following notification of preliminary determinations by Commerce that imports of high pressure steel cylinders from China were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on January 23, 2012 (77 FR 3281). The hearing was held in Washington, DC, on May 1, 2012, and all persons who requested the opportunity were permitted to appear in person or by counsel.

The Commission transmitted its determinations in these investigations to the Secretary of Commerce on June 11, 2012. The views of the Commission are contained in USITC Publication 4328 (June 2012), entitled High Pressure Steel Cylinders from China: Investigation Nos. 701-TA-480 and 731-TA-1188 (Final).

By order of the Commission.
Issued: June 19, 2012.
Lisa R. Barton,
Acting Secretary to the Commission.

[FR Doc. 2012-15288 Filed 6-21-12; 8:45 am]

BILLING CODE 7020-02-P